FEDERAL COMMUNICATIONS COMMISSION

47 CFR Part 73

[DA 04-3443; MB Docket No. 04-213, RM-10991; MB Docket No. 04-216, RM-10994]

Radio Broadcasting Services; Boligee, AL and Vaiden, MS

AGENCY: Federal Communications Commission.

ACTION: Final rule.

SUMMARY: The Audio Division, at the request of Greene County Broadcasting, allots Channel 297A at Boligee, Alabama, as the community's first local aural transmission service. See 69 FR 35564, published June 25, 2004. Channel 297A can be allotted to Boligee in compliance with the Commission's minimum distance separation requirements, provided there is a site restriction of 9.5 kilometers (5.9 miles) northwest of the community. The reference coordinates for Channel 297A at Boligee are 32-48-34 North Latitude and 88-06-27 West Longitude. The Audio Division, at the request of Team Broadcasting Co., Inc., allots Channel 271A at Vaiden, Mississippi, as the community's first local aural transmission service. See 69 FR 35564, published June 25, 2004. Channel 271A can be allotted to Vaiden in compliance with the Commission's minimum distance separation requirements, provided there is a site restriction of 4.4 kilometers (2.7 miles) southeast of the community. The reference coordinates for Channel 271A at Vaiden are 33-18-03 North Latitude and 89-42-54 West Longitude. Filing windows for Channel 297A at Boligee, Alabama and Channel 271A at Vaiden, Mississippi will not be opened at this time. Instead, the issue of opening a filing window for these channels will be addressed by the Commission in a subsequent order.

DATES: Effective December 13, 2004.

ADDRESSES: Federal Communications Commission, 445 Twelfth Street, SW., Washington, DC 20554.

FOR FURTHER INFORMATION CONTACT: Helen McLean, Media Bureau, (202) 418-2738.

SUPPLEMENTARY INFORMATION: This is a synopsis of the Commission's Report and Order, MB Docket Nos. 04-213 and 04-216, adopted October 27, 2004, and released October 29, 2004. The full text of this Commission decision is available for inspection and copying during regular business hours at the FCC's Reference Information Center, Portals II, 445 Twelfth Street, SW., Room CY-A257, Washington, DC 20554. The complete text of this decision may also be purchased from the Commission's duplicating contractor, Best Copy and Printing, Inc., 445 12th Street, SW., Room CY-B402, Washington, DC 20554, telephone 1-800-378-3160 or www.BCPIWEB.com. The Commission will send a copy of this Report and Order in a report to be sent to Congress and the General Accounting Office pursuant to the Congressional Review Act, see 5 U.S.C. 801(a)(1)(A).

List of Subjects in 47 CFR Part 73

Radio, Radio broadcasting.

Part 73 of title 47 of the Code of Federal Regulations is amended as follows:

PART 73—RADIO BROADCAST SERVICES

1. The authority citation for part 73 continues to read as follows:

Authority: 47 U.S.C. 154, 303, 334 and 336.

§ 73.202 [Amended]

2. Section 73.202(b), the Table of FM Allotments under Alabama, is amended by adding Boligee, Channel 297A.

3. Section 73.202(b), the Table of FM Allotments under Mississippi, is amended by adding Vaiden, Channel 271A.

Federal Communications Commission.
John A. Karousos,
Assistant Chief, Audio Division, Media Bureau.

[FR Doc. 04-25511 Filed 11-16-04; 8:45 am]

BILLING CODE 6712-01-P